DEPARTMENT OF ENERGY

Federal Energy Regulatory Commission

Combined Notice of Filings #1

Take notice that the Commission received the following electric rate filings:

Docket Numbers: ER15-1905-009.

Applicants: AZ721 LLC.

Description: Notice of Change in Status of Amazon Energy LLC.

Filed Date: 1/28/22.

Accession Number: 20220128-5432.

Comment Date: 5 p.m. ET 2/18/22.

Docket Numbers: ER17-215-001.

Applicants: Midcontinent Independent System Operator, Inc., Great River Energy, South Mississippi Electric Power Association.

Description: Compliance filing: Midcontinent Independent System Operator, Inc. submits tariff filing per 35: 2022-01-31_ROE Compliance Filing to be effective 9/28/2016.

Filed Date: 1/31/22.

Accession Number: 20220131-5245.

Comment Date: 5 p.m. ET 2/22/22.

Docket Numbers: ER21-2581-002.

Applicants: Southwest Power Pool, Inc.

Description: Compliance filing: Compliance Filing In Response to Order Issued in ER21-2581 (COI/IPL) to be effective 10/1/2021.

Filed Date: 1/31/22.

Accession Number: 20220131-5286.

Comment Date: 5 p.m. ET 2/22/22.

Docket Numbers: ER22-924-000.

Applicants: American Transmission Systems, Incorporated, PJM Interconnection, L.L.C.

Description: § 205(d) Rate Filing: American Transmission Systems, Incorporated submits tariff filing per 35.13(a)(2)(iii: ATSI submits four ECSAs, SA Nos. 6151, 6152, 6283 and 6284 to be effective 3/30/2022.

Filed Date: 1/28/22.

Accession Number: 20220128-5378.

Comment Date: 5 p.m. ET 2/18/22.

Docket Numbers: ER22-925-000.

Applicants: Tucson Electric Power Company.

Description: § 205(d) Rate Filing: Service Agreement Nos. 492 and 493 to be effective 1/1/2022.

Filed Date: 1/28/22.

Accession Number: 20220128-5387.

Comment Date: 5 p.m. ET 2/18/22.

Docket Numbers: ER22-926-000.

Applicants: Flanders Energy LLC.

Description: Notice of Cancellation of Market Based Rate Tariff of Flanders Energy LLC.

Filed Date: 1/28/22.

Accession Number: 20220128-5431.

Comment Date: 5 p.m. ET 2/18/22.

Docket Numbers: ER22-927-000.

Applicants: ISO New England Inc., New England Power Company.

Description: § 205(d) Rate Filing: ISO New England Inc. submits tariff filing per 35.13(a)(2)(iii: ISO-NE and NEP; Third Revised Service Agreement Nos. TSA-NEP-83 and TSA-NEP-86 to be effective 1/1/2022.

Filed Date: 1/31/22.

Accession Number: 20220131-5073.

Comment Date: 5 p.m. ET 2/22/22.

Docket Numbers: ER22-928-000.

Applicants: Pacific Gas and Electric Company.

Description: § 205(d) Rate Filing: Q4 2021 Quarterly Filing of City and County of San Francisco's WDT SA (SA 275) to be effective 12/31/2021.

Filed Date: 1/31/22.

Accession Number: 20220131-5120.

Comment Date: 5 p.m. ET 2/22/22.

Docket Numbers: ER22-929-000.

Applicants: Midcontinent Independent System Operator, Inc., Michigan Electric Transmission Company, LLC, Consumers Energy Company.

Description: § 205(d) Rate Filing: Midcontinent Independent System Operator, Inc. submits tariff filing per 35.13(a)(2)(iii: 2022-01-31_SA 1926 METC-CE 8th Rev DTIA to be effective 1/1/2022.

Filed Date: 1/31/22.

Accession Number: 20220131-5181.

Comment Date: 5 p.m. ET 2/22/22.

Docket Numbers: ER22-930-000.

Applicants: American Transmission Systems, Incorporated, The Cleveland Electric Illuminating Company, Ohio Edison Company, Pennsylvania Power Company, The Toledo Edison Company, PJM Interconnection, L.L.C.

Description: § 205(d) Rate Filing: American Transmission Systems, Incorporated submits tariff filing per 35.13(a)(2)(iii: FirstEnergy submits on behalf of ATSI et al. SA No. 2853 to be effective 4/2/2022.

Filed Date: 1/31/22.

Accession Number: 20220131-5202.

Comment Date: 5 p.m. ET 2/22/22.

Docket Numbers: ER22-931-000.

Applicants: AV Solar Ranch 1, LLC.

Description: § 205(d) Rate Filing: Notice of Change in Status, Revised MBR Tariffs and Request for Waiver to be effective 2/1/2022.

Filed Date: 1/31/22.

Accession Number: 20220131-5211.

Comment Date: 5 p.m. ET 2/22/22.

Docket Numbers: ER22-932-000.

Applicants: Constellation Energy Commodities Group Maine, LLC.

Description: § 205(d) Rate Filing: Notice of Change in Status, Revised MBR Tariffs and Request for Waiver to be effective 2/1/2022.

Filed Date: 1/31/22.

Accession Number: 20220131-5215.

Comment Date: 5 p.m. ET 2/22/22.

Docket Numbers: ER22-933-000.

Applicants: Constellation NewEnergy, Inc.

Description: § 205(d) Rate Filing: Notice of Change in Status, Revised MBR Tariffs and Request for Waiver to be effective 2/1/2022.

Filed Date: 1/31/22.

Accession Number: 20220131-5216.

Comment Date: 5 p.m. ET 2/22/22.

Docket Numbers: ER22-934-000.

Applicants: Exelon Generation Company, LLC.

Description: § 205(d) Rate Filing: Notice of Change in Status, Revised MBR Tariffs and Request for Waiver to be effective 2/1/2022.

Filed Date: 1/31/22.

Accession Number: 20220131-5219.

Comment Date: 5 p.m. ET 2/22/22.

Docket Numbers: ER22-935-000.

Applicants: Virginia Electric and Power Company, PJM Interconnection, L.L.C.

Description: § 205(d) Rate Filing: Virginia Electric and Power Company submits tariff filing per 35.13(a)(2)(iii): Second Revised Service Agreement No. 3226, NITSA Between to be effective 1/1/2022.

Filed Date: 1/31/22.

Accession Number: 20220131-5224.

Comment Date: 5 p.m. ET 2/22/22.

Docket Numbers: ER22-936-000.

Applicants: Flat Ridge Interconnection LLC.

Description: § 205(d) Rate Filing: Filing of Revised Rate Schedule and Request for Waivers to be effective 4/2/2022.

Filed Date: 1/31/22.

Accession Number: 20220131-5229.

Comment Date: 5 p.m. ET 2/22/22.

Docket Numbers: ER22-937-000.

Applicants: New Market Solar ProjectCo 1, LLC.

Description: Baseline eTariff Filing: Application for Market-Based Rates, Waivers and Authority to be effective 3/15/2022.

Filed Date: 1/31/22.

Accession Number: 20220131-5293.

Comment Date: 5 p.m. ET 2/22/22.

Docket Numbers: ER22-938-000.

Applicants: New Market Solar ProjectCo 2, LLC.

Description: Baseline eTariff Filing: Application for MBR, Waivers and Authority to be effective 3/15/2022.

Filed Date: 1/31/22.

Accession Number: 20220131-5296.

Comment Date: 5 p.m. ET 2/22/22.

Docket Numbers: ER22-939-000.

Applicants: Zimmer Power Company LLC.

Description: Tariff Amendment: Notice of Cancellation to be effective 5/31/2022.

Filed Date: 1/31/22.

Accession Number: 20220131-5299.

Comment Date: 5 p.m. ET 2/22/22.

Docket Numbers: ER22-940-000.

Applicants: Northern Indiana Public Service Company LLC.

Description: § 205(d) Rate Filing: Yellow_River CIAC Agreement to be effective 2/1/2022.

Filed Date: 1/31/22.

Accession Number: 20220131-5311.

Comment Date: 5 p.m. ET 2/22/22.

Docket Numbers: ER22-941-000.

Applicants: Arlington Wind Power Project LLC.

Description: Compliance filing: Notice of Change in Category Seller Status in the NW Region to be effective 2/1/2022.

Filed Date: 1/31/22.

Accession Number: 20220131-5318.

Comment Date: 5 p.m. ET 2/22/22.

Docket Numbers: ER22-942-000.

Applicants: Sagebrush Power Partners, LLC.

Description: Compliance filing: Notice of Change in Category Seller Status in the NW Region to be effective 2/1/2022.

Filed Date: 1/31/22.

Accession Number: 20220131-5322.

Comment Date: 5 p.m. ET 2/22/22.

Docket Numbers: ER22-943-000.

Applicants: Wheat Field Wind Power Project LLC.

Description: Compliance filing: Notice of Change in Category Seller Status in the NW Region to be effective 2/1/2022.

Filed Date: 1/31/22.

Accession Number: 20220131-5325.

Comment Date: 5 p.m. ET 2/22/22.

Docket Numbers: ER22-944-000.

Applicants: Black Rock Wind Force, LLC.

Description: Initial rate filing: Filing of Reactive Power Rate Schedule to be effective 3/1/2022.

Filed Date: 1/31/22.

Accession Number: 20220131-5327.

Comment Date: 5 p.m. ET 2/22/22.

Docket Numbers: ER22-945-000.

Applicants: New England Power Pool Participants Committee.

Description: § 205(d) Rate Filing: February 2022 Membership Filing to be effective 1/1/2022.

Filed Date: 1/31/22.

Accession Number: 20220131-5340.

Comment Date: 5 p.m. ET 2/22/22.

Docket Numbers: ER22-946-000.

Applicants: South Jersey Energy Company.

Description: Tariff Amendment: Cancellation of MBR Tariff to be effective 2/1/2022.

Filed Date: 1/31/22.

Accession Number: 20220131-5348.

Comment Date: 5 p.m. ET 2/22/22.

Docket Numbers: ER22-947-000.

Applicants: South Jersey Energy ISO1, LLC.

Description: Tariff Amendment: Cancellation of Complete Tariff to be effective 2/1/2022.

Filed Date: 1/31/22.

Accession Number: 20220131-5350.

Comment Date: 5 p.m. ET 2/22/22.

Docket Numbers: ER22-948-000.

Applicants: South Jersey Energy ISO3, LLC.

Description: Tariff Amendment: Cancellation of MBR Tariff to be effective 2/1/2022.

Filed Date: 1/31/22.

Accession Number: 20220131-5359.

Comment Date: 5 p.m. ET 2/22/22.

Take notice that the Commission received the following electric securities filings:

Docket Numbers: ES22-27-000.

Applicants: Evergy Missouri West, Inc.

Description: Application Under Section 204 of the Federal Power Act for Authorization to Issue Securities of Evergy Missouri West, Inc.

Filed Date: 1/28/22.

Accession Number: 20220128-5311.

Comment Date: 5 p.m. ET 2/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: January 31, 2022.
Debbie-Anne A. Reese,
Deputy Secretary.

[FR Doc. 2022-02382 Filed 2-3-22; 8:45 am]

BILLING CODE 6717-01-P